ENVIRONMENTAL PROTECTION AGENCY

[EPA-HQ-OPP-2008-0143; FRL-8381-1]

The Association of American Pesticide Control Officials/State FIFRA Issues Research and Evaluation Group (SFIREG) Working Committee on Pesticide Operations and Management; Notice of Public Meeting

AGENCY: Environmental Protection Agency (EPA).

ACTION: Notice.

SUMMARY: The Association of American Pesticide Control Officials (AAPCO)/State FIFRA Issues Research and Evaluation Group (SFIREG) Working Committee on Pesticide Operations and Management (WC/POM) will hold a 2-day meeting, beginning on October 6-7, 2008 and ending October 7, 2008. This notice announces the location and times for the meeting and sets forth the tentative agenda topics.

DATES: The meeting will be held on Monday, October 6, 2008 from 8:30 a.m. to 5 p.m. and 8:30 a.m. to 12 noon on Tuesday, October 7, 2008.

To request accommodation of a disability, please contact the person listed under FOR FURTHER INFORMATON CONTACT, preferably at least 10 days prior to the meeting, to give EPA as much time as possible to process your request.

ADDRESSES: The meeting will be held at The Grove Hotel, 245 South Capitol Blvd., Boise, Idaho.

FOR FURTHER INFORMATION CONTACT: Jim Roelofs, Field and External Affairs Division, (7506P), Office of Pesticide Programs, Environmental Protection Agency, 1200 Pennsylvania Ave., NW., Washington, DC 20460-0001; telephone number: (703) 308-2964; fax number: (703) 308-1850; e-mail address: roelofs.jim@epa.gov or Grier Stayton, SFIREG Executive Secretary, P.O. Box 466, Milford, DE 19963; telephone number: (302) 422-8152; fax (302) 422-2435; e-mail address: aapco-sfireg@comcast.net.

SUPPLEMENTARY INFORMATION:

I. General Information

A. Does this Action Apply to Me?

You may be potentially affected by this action if you are interested in SFIREG information exchange relationship with EPA regarding important issues related to human health, environmental exposure to pesticides, and insight into EPA's decision-making process are invited and encouraged to attend the meetings and participate as appropriate. Potentially affected entities may include, but are not limited to, those persons who are or may be required to conduct testing of chemical substances under the Federal Food, Drug and Cosmetic Act (FFDCA), or the Federal Insecticide, Fungicide, and Rodenticide Act (FIFRA).

B. How Can I Get Copies of this Document and Other Related Information?

1. Docket. EPA has established a docket for this action under docket ID number EPA-HQ-OPP-2008-0143. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. Background

1. Discussion on risk mitigation measures for soil fumigants.

2. Follow up report on updated spray drift language for agricultural pyrethroids.

3. State concerns with proposed labeling changes for picloram.

4. Refining a system for SFIREG/POM review of proposed pesticide labeling.

5. Improving groundwater advisory statements on pesticide labels.

6. Developing acceptable, boiler plate language to replace “For Use By” statements.

7. Risk of eye injury from certain 2,4-D products.

8. Food safety issues following pesticide misuse.

9. EPA Update/Briefing.

a. Office of Pesticide Programs Update.

b. Office of Enforcement Compliance Assurance Update.

10. POM Working Committee Workgroups Issue Papers/Updates.

List of Subjects

Environmental protection,

Dated: September 4, 2008.
William R. Diamond,
Director, Field and External Affairs Division, Office of Pesticide Programs

[FR Doc. E8-22077 Filed 9-19-08; 8:45 am]

BILLING CODE 6560-50-S